DEPARTMENT OF DEFENSE

Department of the Army, Corps of Engineers

Notice of Intent To Prepare a Draft Environmental Impact Statement for the Mississippi River Hatchie/Loosahatchie, MS River Mile 775-736, Tennessee and Arkansas, Ecosystem Restoration Feasibility Study

AGENCY: U.S. Army Corps of Engineers, Defense Department (DoD).

ACTION: Notice of intent.

SUMMARY: Pursuant to the National Environmental Policy Act (NEPA), the U.S. Army Corps of Engineers (USACE), Memphis District (CEMVM) intends to prepare a Draft Integrated Feasibility Report and Environmental Impact Statement (DIFR-EIS) for the Hatchie-Loosahatchie Mississippi River Ecosystem Restoration Study. The study seeks to examine restoring ecological structure and function to the mosaic of habitats along the lower Mississippi River (LMR) and its floodplain between River Miles 775 and 736 including secondary channels and other floodplain aquatic habitats; floodplain forests; and several scarce vegetative communities such as, wetlands, rivercane, riverfront forests, and bottomland hardwood forests.

DATES: Written comments submitted for consideration are due by 5 December 2022.

ADDRESSES: Written scoping comments should be submitted by mail to: U.S. Army Corps of Engineers, Memphis District, Attn: CEMVN-PDC-UDC, 167 North Main St., Room B-202, Memphis, Tennessee 38103, or by email to: LMRRA-Hatchie-Loosahatchie@usace.army.mil.

FOR FURTHER INFORMATION CONTACT: Questions or requests to be added to the project mailing list should be directed to Mr. Mike Thron by mail at U.S. Army Corps of Engineers, Memphis District, Attn: CEMVN-PDC-UDC, 167 North Main St., Room B-202, Memphis, Tennessee 38103; by phone at 901-544-0708; or by email at LMRRA-Hatchie-Loosahatchie@usace.army.mil. For additional information about the project, please visit the project website at: https://www.mvm.usace.army.mil/Missions/Environmental-Stewardship/Hatchie-Loosahatchie-Mississippi-River-Ecosystem-Restoration-Study/.

SUPPLEMENTARY INFORMATION:

1. Background and Authorization

The U.S. Army Corps of Engineers, as the lead agency, in partnership with the Lower Mississippi River Conservation Committee (LMRCC), as the non-federal sponsor, are undertaking this study. The Hatchie-Loosahatchie Mississippi River Ecosystem Restoration Study will examine restoring ecological structure and function along an approximate 39-mile reach of the Mississippi River bordering Arkansas and Tennessee between River Mile 775, above its confluence with the Hatchie River, and River Mile 736, below its confluence with the Loosahatchie River, including secondary channels and other floodplain aquatic habitats; floodplain forests; and several scarce vegetative communities such as, wetlands, rivercane, riverfront forests, and bottomland hardwood forests.

The LMRCC, formed in 1994, is a nonprofit coalition of the six states along the LMR—Arkansas, Kentucky, Louisiana, Missouri, Mississippi, and Tennessee. The LMRCC's mission is to promote the restoration of the LMR through cooperative efforts, encompassing natural resources management, information sharing, public education, advocacy, and research.

This study to determine the feasibility of habitat restoration between River Miles 775 and 736 is authorized by Section 1202(a) of the Water Resources Development Act (WRDA) of 2018, Public Law 115-270, and is the first of eight reaches of the LMR identified as priorities in the report prepared by the Secretary pursuant to section 402 of the WRDA of 2000, titled “Lower Mississippi River Resource Assessment; Final Assessment In Response to Section 402 of WRDA 2000,” Public Law 106-541, and dated July 2015.

The Lower Mississippi River Resource Assessment (LMRRA) examined information needed for river-related management; the needs of natural habitats and the species they support; and the need for more river-related recreation and public access. Historically, the navigation and flood risk management systems have received most of the attention on the LMR. Habitat and recreation have not been managed as systems on the LMR, but planning for these uses is starting to receive focus from many entities. The Final LMRRA Assessment, presented as a report to Congress in 2016, included a strategy to meet those information, habitat, and recreation needs. The recommended strategy included the creation of three programs to address the needs on the river: (1) a Data, Information, Science, and Communication (DISC) Program, (2) a Habitat Restoration and Management Program (HRMP), and (3) a Recreation Program (RP). Each of these programs includes multiple studies and projects. The recommendations leverage existing programs and encourage both public and private investment in the river. All recommendations are compatible with navigation and flood risk management. The recommended HRMP primarily relies on the USACE, U.S. Fish and Wildlife Service (USFWS), and the LMRCC with their cooperating agencies, partners, and states—Kentucky, Missouri, Tennessee, Arkansas, Mississippi, and Louisiana. The program would benefit a variety of habitats and the species that rely on them, recreational users, local economies, and other river resources.

The HRMP included eight priority LMR conservation reach habitat restoration studies, which collectively represent 290 of the 954 river miles in the floodplain of the LMR. Study emphasis includes project planning, engineering and design within the main channel, secondary channels, floodplain lakes, and other backwater areas within the LMR floodplain, building from the work defined in LMRCC's Restoring America's Greatest River Initiative and the LMRRA. These feasibility studies will examine the Mississippi River and its floodplain to determine if there is Federal interest sufficient to justify construction of ecosystem restoration features.

The LMR is a dynamic freshwater ecosystem changing with the river's annual hydrologic regime with interactions among the terrestrial and aquatic systems, main channel and side channel areas, mudflats, backwaters, tributaries, and islands. The Mississippi River Levee system has disconnected much of the floodplain from the river. Flood risk management and navigation projects have altered bends and diverted flow from secondary channels. Extensive structural changes on the river's main-stem have disrupted the once dynamic ecosystem. There is less available habitat for federally listed threatened and endangered species including pallid sturgeon and fat pocketbook mussels, and several other species of conservation concern. Modification and changes in the LMR have resulted in a number of extensive habitat changes including reductions in both vegetative diversity and forested habitat; extensive loss of connection between the river, its associated floodplain, and critical floodplain habitat; loss and disconnection of side channels, backwaters, and oxbows; decreased main channel and main channel border habitat diversity; loss of gravel bars, sandbars and islands; and a substantial increase in presence of invasive species.

There is a critical need to restore habitat and ecosystem function in the LMR in association with the continued operation of significant levee and navigation infrastructure. Restoration opportunities include restoring vegetative diversity and forest habitats in the active floodplain; improving floodplain connectivity with the river; reconnection of side channels, backwaters, and floodplain lakes; restoration of sandbars and gravel bars; development and enhancement of islands; and increasing habitat diversity in the main channel and along the shoreline.

2. Purpose and Need for the Proposed Action

The purpose and need for the proposed action is to restore habitat and ecosystem function along an approximate 39-mile reach of the LMR and its floodplain in harmony with the existing USACE mission areas of ensuring navigation and flood risk reduction.

3. Preliminary Proposed Action and Alternatives Considered

The DIFR-EIS will analyze alternatives for ecosystem improvements within this reach of the LMR and its floodplain. Alternatives may include, but are not limited to, removing obstructions to increase connectivity within large river and floodplain aquatic habitats, restoring depths and improving aquatic habitat complexity, increasing quantity and/or quality of the diverse mosaic of vegetated habitats, such as, submersed aquatic vegetation, rivercane, cypress/tupelo swamps, bottomland hardwood and riverfront forests, and improving recreational, educational, and/or other opportunities for public access that are compatible with ecosystem restoration purposes. The study will identify and evaluate a full range of reasonable alternatives, including the No Action Alternative.

4. Brief Summary of Expected Impacts

Expected impacts include short-term disturbances of existing aquatic and floodplain habitats during construction, followed by long-term improvements to the ecosystem.

5. Anticipated Permits, Consultations, or Coordination

The proposed Action is being coordinated with federal, state, regional, and local agencies. In accordance with relevant environmental laws and regulations, USACE will consult with the following agencies: USFWS under the Fish and Wildlife Coordination Act; USFWS under the Endangered Species Act; Arkansas Department of Environment and Energy and Tennessee Department of Environment and Conservation for Water Quality Certification; and, the Advisory Council on Historic Preservation (ACHP), Tennessee and Arkansas State Historic Preservation Offices (SHPOs), and the appropriate Tribal Historic Preservation Officers under the National Historic Preservation Act (NHPA) and integrated NHPA/EIS process. The non-Federal sponsor, the LMRCC, is comprised of the 12 state wildlife and water quality agencies from the six states bordering the LMR, and works in cooperation with the USFWS, U.S. Geological Survey (USGS), USACE, U.S. Environmental Protection Agency (EPA), U.S. Department of Agriculture's (USDA's) Natural Resources Conservation Service (NRCS), and various conservation focused non-governmental organizations (NGOs). These agencies have been active in the preceding LMRRA Report and current study to date and continued coordination is expected throughout the study process.

6. Public Participation

USACE invites all affected federal, state, and local agencies, affected Native American Tribes, other interested parties, and the general public to participate in the NEPA process during development of the DIFR-EIS. The purpose of the public scoping process is to provide information to the public, narrow the scope of analysis to significant environmental issues, serve as a mechanism to solicit agency and public input on the identification of potential alternatives, information, and analyses relevant to the proposed action, and ensure full and open participation in scoping for the draft SEIS.

Scoping and other study related information will continue to be made available on the project website at: https://www.mvm.usace.army.mil/Missions/Environmental-Stewardship/Hatchie-Loosahatchie-Mississippi-River-Ecosystem-Restoration-Study/. To ensure that public comments are considered in DIFR-EIS development process, members of the public, interested persons and entities must submit their comments to USACE by mail, email, or at the Scoping Meeting(s). Written comments submitted for consideration are due 30 days from the date of this Notice of Intent. Please include your name and return address on the first page of written comments. All personally identifiable information (for example, name, address, etc.) voluntarily submitted by a commenter may be publicly accessible. Do not submit confidential business information or otherwise sensitive or protected information.

Public scoping meeting(s) will be held at various locations around the study area during the scoping period which extends 30 days from the date of this Notice of Intent, to present information and receive comments from the public. Notification of the scoping meeting(s) will be publicly announced in advance by USACE on the project website at: https://www.mvm.usace.army.mil/Missions/Environmental-Stewardship/Hatchie-Loosahatchie-Mississippi-River-Ecosystem-Restoration-Study/, and through press releases, special public notices, and USACE-Memphis District social media platforms, at a minimum.

7. Availability

The DIFR-EIS is presently scheduled to be available for public review and comment in early 2023. A final IFR-EIS is tentatively scheduled for release in May 2024.

James A. Bodron,
Regional Business Director, Mississippi Valley Division.

[FR Doc. 2022-24019 Filed 11-3-22; 8:45 am]

BILLING CODE 3720-58-P